DEPARTMENT OF ENERGY

Federal Energy Regulatory Commission

Notice of Application for Amendment of License and Soliciting Comments, Motions To Intervene, and Protests

February 24, 2000.

Take notice that the following hydrolectric application has been filed with the Commission and is available for public inspection:

a. Type of Application: Amendment of License.

b. Project No.: 2232-407.

c. Date filed: January 31, 2000.

d. Applicant: Duke Energy Corporation.

e. Name of Project: Catawba-Wateree Project.

f. Location: On the Catawba River, in Lancaster, York, and Fairfield Counties, South Carolina and Gaston, Lincoln, and Burke Counties, North Carolina. The project does not utilize federal or tribal lands.

g. Filed Pursuant to: Federal Power Act, 16 U.S.C. Section 791(a)-825(r).

h. Applicant Contact: Mr. E.M. Oakley, Duke Energy Corporation, P.O. Box 10016 (EC12Y), Charlotte, NC 28201-1006, (704) 382-5778.

i. FERC Contact: Robert Fletcher, robert.fletcher@ferc.fed.us, 202-219-1206.

j. Deadline for filing comments, motions to intervene and protest: 30 days from the issuance date of this notice. Please include the project number (2232-407) on any comments or motions filed. All documents (original and eight copies) should be filed with: David P. Boergers, Secretary, Federal Energy Regulatory Commission, 888 First Street, NE, Washington, DC 20426.

k. Description of Application: The licensee requests an amendment to its license to: (1) Grant an easement to the Charlotte-Mecklenburg Utilities Department (CMUD) for three parcels of project land containing a total of 0.33 acres (a requested increase of 0.2 acres) for maintenance of intake and raw water pumping facilities for Cells 1, 2, and 3, and construction of intake and raw water pumping facilities for Cell 4; (2) grant an easement to CMUD for a water withdrawal to be increased at the CMUD Catawba River Raw Water Pump Station located on the Mountain Island reservoir from the currently authorized maximum instantaneous withdrawal rate of 165 million gallons per day (MGD) to 330 MGD for the purpose of improving CMUD's water supply system reliability; and (3) permit CMUD to conduct maintenance and dredging to recreate the original channels associated with the three existing intake structures and to conduct the additional dredging necessary to accommodate the expansion of the pumping capacity at Cell 1.

l. Locations of the application: A copy of the application is available for inspection and reproduction at the Commission's Public Reference Room, located at 888 First Street NE, Room 2A, Washington, DC 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-4896 Filed 2-29-00; 8:45 am]

BILLING CODE 6717-01-M